DEPARTMENT OF AGRICULTURE

Agricultural Marketing Service

[Doc. No. AMS-FGIS-18-0053]

United States Standards for Canola

AGENCY: Agricultural Marketing Service, USDA.

ACTION: Notice.

SUMMARY: This action is being taken under the authority of the United States Grain Standards Act, as amended, (USGSA). The United States Department of Agriculture's (USDA) Agricultural Marketing Service (AMS) is making no changes regarding the United States (U.S.) Standards for Canola under the USGSA.

DATES: Applicability date: December 29, 2022.

FOR FURTHER INFORMATION CONTACT: Gregory Giese, USDA AMS; Telephone: (816) 702-3926; Email: Gregory.J.Giese@usda.gov.

SUPPLEMENTARY INFORMATION: Section 4 of the USGSA (7 U.S.C. 76(a)) grants the Secretary of Agriculture the authority to establish standards for grain regarding kind, class, quality, and condition. AMS published a request for information on June 29, 2018, in the Federal Register (83 FR 30590), inviting interested parties to comment on whether the current canola standards and grading practices needed to be amended. Based on a request to extend the comment period, AMS reopened the comment period in a Federal Register publication on October 2, 2018.

AMS received a total of eight comments, during two separate comment periods, one of which requested that AMS extend the first comment period. Two comments requested the establishment of a national calibration for canola oil content to guarantee fair trade. Another comment requested the establishment of a national monitoring program for canola oil testing, to reduce the variability in canola oil results.

In response to those comments, AMS notes that oil content is not a grade determining factor in any of the United States Standards for Grain. At this time, AMS has not received any comments that would support adding oil content as a grading factor to the canola standards. To pursue the development of standardized calibrations for analysis such oil content, the oil content of a specific grain would need to be identified as official criteria. AMS offers tests for official criteria, but the results do not impact the grade. A notice to propose official criteria must be published in the Federal Register (7 CFR 800.4). Because oil content is not an official criterion for canola, AMS is not pursuing the establishment of a national monitoring program for oil content.

AMS received one comment requesting the addition of erucic acid to the U.S. Standards for Canola because of its effect on human health. The commenter cited the English Centre for Food Safety as recommending erucic acid not exceed 5 percent of the weight of the fatty acid in oils. In response to this comment, AMS has already established, in the canola standard, the maximum level of erucic acid in canola (7 CFR 810.301). Canola, by definition, must contain less than 2 percent erucic acid in its fatty acid profile.

AMS received another comment from a stakeholder recommending the table of Grades and Grade Requirements in the Canola Regulations be changed to match the same table in Grain Inspection Handbook II, Chapter 3 Canola. AMS has reviewed the tables and confirmed that the information in the table of Grades and Grade Requirements is correct in both the Regulations and the Handbook, with differences only in formatting. AMS prefers the format of the table in the Regulations and will format the layout of the table in the Handbook to match the Regulations.

AMS received two additional comments, of which one was not germane to the request for information, and another provided support for retaining the Canola Standards without change, stating that they are meeting their stated purpose.

Final Action

Based on the comments received, AMS-FGIS is making no changes to the U.S Standards for Canola at this time.

(Authority: 7 U.S.C. 71-87k)

Melissa Bailey,
Associate Administrator, Agricultural Marketing Service.

[FR Doc. 2022-28392 Filed 12-28-22; 8:45 am]

BILLING CODE P